INTERNATIONAL TRADE COMMISSION

[Investigation Nos. 701-TA-598 and 731-TA-1408 (Final)]

Rubber Bands From China; Determinations

On the basis of the record ¹ developed in the subject investigations, the United States International Trade Commission (“Commission”) determines, pursuant to the Tariff Act of 1930 (“the Act”), that an industry in the United States is materially injured by reason of imports of rubber bands from China, provided for in subheading 4016.99.35 ² of the Harmonized Tariff Schedule of the United States, that have been found by the U.S. Department of Commerce (“Commerce”) to be sold in the United States at less than fair value (“LTFV”), and to be subsidized by the government of China.³

¹ The record is defined in sec. 207.2(f) of the Commission's Rules of Practice and Procedure (19 CFR 207.2(f)).

² Merchandise covered by the scope of these investigations may also enter under HTSUS subheading 4016.99.6050.

³ The Commission also finds that imports subject to Commerce's affirmative critical circumstances determinations are not likely to undermine seriously the remedial effect of the countervailing and antidumping duty orders on rubber bands from China.

Background

The Commission, pursuant to sections 705(b) and 735(b) of the Act (19 U.S.C. 1671d(b) and 19 U.S.C. 1673d(b)), instituted these investigations effective January 30, 2018, following receipt of a petition filed with the Commission and Commerce by Alliance Rubber Co., Hot Springs, Arkansas. The final phase of the investigations was scheduled by the Commission following notification of preliminary determinations by Commerce that imports of rubber bands from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 17, 2018 (83 FR 46969).⁴ The hearing was held in Washington, DC, on November 13, 2018, and all persons who requested the opportunity were permitted to appear in person or by counsel.

⁴ Due to the lapse in appropriations and ensuing cessation of Commission operations, all import injury investigations conducted under authority of Title VII of the Tariff Act of 1930 accordingly have been tolled pursuant to 19 U.S.C. 1671d(b)(2), 1673d(b)(2).

The Commission made these determinations pursuant to sections 705(b) and 735(b) of the Act (19 U.S.C. 1671d(b) and 19 U.S.C. 1673d(b)). It completed and filed its determinations in these investigations on January 7, 2019. The views of the Commission are contained in USITC Publication 4863 (January 2019), entitled Rubber Bands from China: Investigation Nos. 701-TA-598 and 731-TA-1408 (Final).

By order of the Commission.
Issued: February 11, 2019.
Lisa Barton,
Secretary to the Commission.

[FR Doc. 2019-02437 Filed 2-14-19; 8:45 am]

BILLING CODE 7020-02-P